DEPARTMENT OF AGRICULTURE

Forest Service

Chequamegon-Nicolet National Forest, WS; Fishbone Project

AGENCY: Forest Service, USDA.

ACTION: Notice of intent to prepare an environmental impact statement.

SUMMARY: The USDA Forest Service, Chequamegon-Nicolet National Forest, Washburn, Ranger District intends to prepare an environmental impact statement (EIS) to disclose the environmental consequences of the “Fishbone Project” vegetation management proposal. In the EIS the Forest Service will address the potential environmental impacts associated with timber harvest (including clearcut harvest with reserve trees, shelterwood, and thinning), restoring small, open areas and “pocket barrens” as a component of the overall landscape, and providing a safe road system that meets the long term transportation needs. The Fishbone Project Area is approximately 22,000 acres in size and is located approximately 6 miles east of Iron River, Wisconsin.

DATES: Comments concerning the scope of the analysis should be received by June 15, 2005 to receive timely consideration in the preparation of the draft EIS. The draft environmental impact statement is expected by Janaury, 2006, and the final environmental impact statement is expected by April, 2006.

ADDRESSES: Send written comments to the responsible official care of: Jennifer Maziasz, Project Leader; Chequamegon-Nicolet National Forest, Washburn Ranger District; P.O. Box 578, Washburn, WI 54891. Send electronic comments to: comments-eastern-chequamegon-nicolet-washburn@fs.fed.us. See SUPPLEMENTARY INFORMATION section for information on how to send electronic comments.

FOR FURTHER INFORMATION CONTACT: Jennifer Maziasz, Project Leader, Chequamegon-Nicolet National Forest, Washburn Ranger District, USDA Forest Service; telephone: 715-373-2667. See address above under ADDRESSES. Copies of the documents may also be requested at the same address. Another means of obtaining the information is to visit the Forest Web page at http://www.fs.fed.us/r9/cnnf/ click on “Natural Resources”, then “Fishbone Project”.

SUPPLEMENTARY INFORMATION: Purpose and Need for Action: The purpose and need for the project is to: (1) Restore forest health and improve the economic value in older, decadent, and/or diseased oak and aspen stands by promoting younger growth, reducing competition, improving crown condition, or increasing species diversity, (2) Improve the vigor, health, and future economic value of red pine plantations by reducing tree competition, (3) Restore small, open areas and “pocket barrens” as a component of the overall landscape, (4) Provide an efficient and safe road system that meets the long term transportation needs, and (5) Provide timber to meet local and/or regional demands for wood products.

Proposed Action: The proposed project consists of approximately 5,200 acres of forest management activities. Briefly, the objectives of the proposal are to maintain and enhance the forest health and vigor of trees within the project area while providing a variety of wood products; and, to restore and improve various aspects of the terrestrial ecosystem and transportation system. A brief summary of the proposed activities follows: (1) Clearcut (with reserve trees) 1,500 acres, (2) thin 2,100 acres, (3) shelterwood harvest 1,600 acres, (4) maintain 50 acres of wildlife openings by brushing and/or prescribed burning, (5) restore 200 acres of “pocket barrens” by thinning and/or prescribed burning (pocket barrens are small areas of rare plant communities dominated by grass, low shrubs, small trees, and scatttered large trees), and (6) manage for an efficient road system. Road activities would construct 6 miles of new permanent roads and 4 miles of temporary roads to facilitate timber harvest. In addition, 35 miles of roads that the Forest Service has determined is not needed for the long term management would be decommissioned.

Responsible Official: Anne Archie, Forest Supervisor; Chequamegon-Nicolet National Forest, 1170 4th Avenue South, Park Falls, WI 54552.

Nature of Decision To Be Made: The decision will be limited to answering the following three questions based on the environmental analysis: (1) What actions would be used to address the purpose and need, (2) where and when these actions would occur, and (3) what mitigation measures and monitoring requirements will be required.

Scoping Process: The Chequamegon-Nicolet National Forest plans to scope for information by contacting persons and organizations on the District's mailing list, by publishing a notice the local newspapers, and by posting flyers at key locations within and nearby the Fishbone project area. No public meetings are planned at this time.

Electronic Access to Information: Information is available electronically on the Forest Web page: http://www.fs.fed.us/r9/cnnf/—click on “Natural Resources”, then “Fishbone Project”. Send electronic comments to: comments-eastern-chequamegon-nicolet-washburn@fs.fed.us. When sending electronic comments, please reference the Fishbone Project in the subject line. In addition, include your name and address.

Comment Requested: This notice of intent initiates the scoping proces which guides the development of the environmental impact statement. Although comments are welcome throughout the analysis process, your comments would be most useful if received by June 15, 2005. Everyone who provides comments will be periodically updated during the course of the Fishbone Project regarding its development, as well as receive a copy of the Draft Environmental Impact Statement in order to review the results of our analysis.

Early Notice of Importance of Public Participation in Subsequent Environmental Review: A draft environmental impact statement will be prepared for comment. The comment period on the draft environmental impact statement will be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: May 10, 2005.
Anne F. Archie,
Forest Supervisor, Chequamegon-Nicolet National Forest.

[FR Doc. 05-10078 Filed 5-19-05; 8:45 am]

BILLING CODE 3410-11-P